DEPARTMENT OF THE INTERIOR

National Indian Gaming Commission

The National Environmental Policy Act Procedures Manual

AGENCY: National Indian Gaming Commission.

ACTION: Notice of reopening of comment period.

SUMMARY: This notice reopens the period for comments on the Draft NEPA Procedures Manual published in the Federal Register on December 4, 2009 (74 FR 63765, 74 FR 63787).

DATES: The comment period for the Draft NEPA Procedures Manual is being reopened from January 19, 2010, to March 4, 2010.

ADDRESSES: Please submit your comments by only one of the following means: (1) By mail to: Brad Mehaffy, National Indian Gaming Commission, 1441 L Street, NW., Suite 9100, Washington, DC 20005; (2) by hand delivery to: National Indian Gaming Commission, 1441 L Street, NW., Suite 9100, Washington, DC 20005; (3) by facsimile to: (202) 632-7066; (4) by e-mail to: nepa_procedures@nigc.gov; or (5) online at http://www.regulations.gov.

FOR FURTHER INFORMATION CONTACT: Bradley Mehaffy, NEPA Compliance Officer at the National Indian Gaming Commission: 202-632-7003 or by facsimile at 303-632-7066 (not toll-free numbers).

SUPPLEMENTAL INFORMATION: In response to several requests, the Acting Chairman of the National Indian Gaming Commission has decided to reopen the comment period on the Draft NEPA Procedures Manual for an additional 45 days.

Dated: January 15, 2010.
George T. Skibine,
Acting Chairman, National Indian Gaming Commission.

[FR Doc. 2010-1148 Filed 1-21-10; 8:45 am]

BILLING CODE 7565-01-P